DEPARTMENT OF THE INTERIOR

National Park Service

Notice of Boundary Revision, Rocky Mountain National Park

SUMMARY: This notice announces a revision to the boundary of Rocky Mountain National park to include one parcel of land owned by Estes Valley Land Trust. The National Park Service has determined that this boundary revision is necessary for the preservation and protection of the national park.

DATES: The effective date of this Order is June 25, 2003.

FOR FURTHER INFORMATION CONTACT: Superintendent, Rocky Mountain National Park, Estes, Colorado 80517-8397 or by telephone at 970-568-1399.

SUPPLEMENTARY INFORMATION: 16 U.S.C. 4601-9(c)(1) authorizes the Secretary of the Interior to make this boundary revision. This action will add one parcel of land comprised of 63.38 acres to Rocky Mountain National Park in Larimer County, Colorado.

The above parcel is depicted as tract number 10-110 on land acquisition status map segment 10, having drawing number 121-92,002. This map is on file at the National Park Service, Land Resources Program Center, Intermountain Region, and at the Office of the Superintendent, Rocky Mountain National Park.

Dated: November 26, 2002.
Karen P. Wade,
Regional Director, Intermountain Region, National Park Service.

Editorial Note: This document was received at the Office of the Federal Register on June 19, 2003.

[FR Doc. 03-15978 Filed 6-24-03; 8:45 am]

BILLING CODE 4310-08-P